DEPARTMENT OF AGRICULTURE

Rural Housing Service

Notice of Funding Availability of Applications for Section 514 Farm Labor Housing Loans and Section 516 Farm Labor Housing Grants for Off-Farm Housing for Fiscal Year (FY) 2009

AGENCY: Rural Housing Service, USDA.

ACTION: Notice.

SUMMARY: This notice announces the timeframe to submit pre-applications for Section 514 Farm Labor Housing (FLH) loans and Section 516 FLH grants for the construction of new off-farm FLH units and related facilities for domestic farm laborers. The intended purpose of these loans and grants is to increase the number of available housing units for domestic farm laborers. This notice describes the method used to distribute funds, the application process, and submission requirements.

DATES: The deadline for receipt of all applications in response to this is 5 p.m., local time to the appropriate Rural Development State Office on July 20, 2009. The application closing deadline is firm as to date and hour. Rural Development will not consider any application that is received after the closing deadline unless date and time is extended by another Notice published in the Federal Register. Applicants intending to mail applications must provide sufficient time to permit delivery on or before the closing deadline. Acceptance by a post office or private mailer does not constitute delivery. Facsimile (FAX), and postage due applications will not be accepted.

ADDRESSES: Applicants wishing to apply for assistance must contact the Rural Development State Office serving the State of the proposed off-farm labor housing project in order to receive further information and copies of the application package. Rural Development will date and time stamp incoming applications to evidence timely receipt and, upon request, will provide the applicant with a written acknowledgment of receipt. A listing of Rural Development State Offices, their addresses, telephone numbers, and person to contact are as follows:

Note: Telephone numbers listed are not toll-free.

Alabama State Office, Suite 601, Sterling Centre, 4121 Carmichael Road, Montgomery, AL 36106-3683, (334) 279-3455, TDD (334) 279-3495, James B. Harris.

Alaska State Office, 800 West Evergreen, Suite 201, Palmer, AK 99645-6539, (907) 761-7705, TDD (907) 761-8905, Deborah Davis.

Arizona State Office, Phoenix Courthouse and Federal Building, 230 North First Ave., Suite 206, Phoenix, AZ 85003-1706, (602) 280-8764, TDD (602) 280-8706, Ernie Wetherbee.

Arkansas State Office, 700 W. Capitol Ave., Room 3416, Little Rock, AR 72201-3225, (501) 301-3250, TDD (501) 301-3063, Greg Kemper.

California State Office, 430 G Street, #4169, Davis, CA 95616-4169, (530) 792-5821, TDD (530) 792-5848, Debra Moretton.

Colorado State Office, 655 Parfet Street, Room E100, Lakewood, CO 80215, (720) 544-2923, TDD (800) 659-2656, Mary Summerfield.

Connecticut, Served by Massachusetts State Office.

Delaware and Maryland State Office, 1221 College Park Drive, Suite 200, Dover, DE 19904, (302) 857-3615, TDD (302) 857-3585, Pat Baker.

Florida & Virgin Islands State Office, 4440 N.W. 25th Place, Gainesville, FL 32606-6563, (352) 338-3436, TDD (352) 338-3499, Daryl Cooper.

Georgia State Office, Stephens Federal Building, 355 E. Hancock Avenue, Athens, GA 30601-2768, (706) 546-2164, TDD (706) 546-2034, Wayne Rogers.

Hawaii State Office, (Services all Hawaii, American Samoa Guam, and Western Pacific), Room 311, Federal Building, 154 Waianuenue Avenue, Hilo, HI 96720, (808) 933-8305, TDD (808) 933-8321, Donald Estes.

Idaho State Office, Suite A1, 9173 West Barnes Dr., Boise, ID 83709, (208) 378-5630, TDD (208) 378-5644, Miriam Haylett.

Illinois State Office, 2118 West Park Court, Suite A, Champaign, IL 61821-2986, (217) 403-6222, TDD (217) 403-6240, Barry L. Ramsey.

Indiana State Office, 5975 Lakeside Boulevard, Indianapolis, IN 46278, (317) 290-3100 (ext. 423), TDD (317) 290-3343, Stephen Dye.

Iowa State Office, 210 Walnut Street, Room 873, Des Moines, IA 50309, (515) 284-4493, TDD (515) 284-4858, Heather Honkomp.

Kansas State Office, 1303 SW First American Place, Suite 100, Topeka, KS 66604-4040, (785) 271-2721, TDD (785) 271-2767, Virginia M. Hammersmith.

Kentucky State Office, 771 Corporate Drive, Suite 200, Lexington, KY 40503, (859) 224-7325, TDD (859) 224-7422, Paul Higgins.

Louisiana State Office, 3727 Government Street, Alexandria, LA 71302, (318) 473-7962, TDD (318) 473-7655, Yvonne R. Emerson.

Maine State Office, 967 Illinois Ave., Suite 4, P.O. Box 405, Bangor, ME 04402-0405, (207) 990-9110, TDD (207) 942-7331, Bob Nadeau.

Maryland, Served by Delaware State Office.

Massachusetts, Connecticut & Rhode Island State Office, 451 West Street, Amherst, MA 01002, (413) 253-4333, TDD (413) 253-4590, Arlene Nunes.

Michigan State Office, 3001 Coolidge Road, Suite 200, East Lansing, MI 48823, (517) 324-5192, TDD (517) 337-6795, Julie Putnam.

Minnesota State Office, 375 Jackson Street Building, Suite 410, St. Paul, MN 55101-1853, (651) 602-7812, TDD (651) 602-7830, Nancy Schmidt.

Mississippi State Office, Federal Building, Suite 831, 100 W. Capitol Street, Jackson, MS 39269, (601) 965-4325, TDD (601) 965-5850, Darnella Smith-Murray.

Missouri State Office, 601 Business Loop 70 West, Parkade Center, Suite 235, Columbia, MO 65203, (573) 876-0990, TDD (573) 876-9480, Colleen James.

Montana State Office, 900 Technology Blvd., Suite B, Bozeman, MT 59718, (406) 585-2515, TDD (406) 585-2562, Deborah Chorlton.

Nebraska State Office, Federal Building, Room 152, 100 Centennial Mall N. Lincoln, NE 68508, (402) 437-5734, TDD (402) 437-5093, Linda Anders.

Nevada State Office, 1390 South Curry Street, Carson City, NV 89703-5146, (775) 887-1222 (ext. 25), TDD (775) 885-0633, Angilla Denton.

New Hampshire State Office, Concord Center, Suite 218, Box 317, 10 Ferry Street, Concord, NH 03301-5004, (603) 223-6050, TDD (603) 229-0536, Robert McCarthy.

New Jersey State Office, 5th Floor North, Suite 500, 8000 Midlantic Dr., Mt. Laurel, NJ 08054, (856) 787-7740, TDD (856) 787-7784, George Hyatt, Jr.

New Mexico State Office, 6200 Jefferson St., NE, Room 255, Albuquerque, NM 87109, (505) 761-4944, TDD (505) 761-4938, Susan Ellzey.

New York State Office, The Galleries of Syracuse, 441 S. Salina Street, Suite 357, 5th Floor, Syracuse, NY 13202, (315) 477-6419, TDD (315) 477-6400, Michael Bosak.

North Carolina State Office, 4405 Bland Road, Suite 260, Raleigh, NC 27609, (919) 873-2055, TDD (919) 873-2003, Beverly Casey.

North Dakota State Office, Federal Building, Room 208, 220 East Rosser, P.O. Box 1737, Bismarck, ND 58502, (701) 530-2049, TDD (701) 530-2113, Kathy Lake.

Ohio State Office, Federal Building, Room 507, 200 North High Street, Columbus, OH 43215-2477, (614) 255-2418, TDD (614) 255-2554, Melodie Taylor-Ward.

Oklahoma State Office, 100 USDA, Suite 108, Stillwater, OK 74074-2654, (405) 742-1070, TDD (405) 742-1007, Ivan S. Graves.

Oregon State Office, 1201 NE Lloyd Blvd., Suite 801, Portland, OR 97232, (503) 414-3325, TDD (503) 414-3387, Sherryl Gleason.

Pennsylvania State Office, One Credit Union Place, Suite 330, Harrisburg, PA 17110-2996, (717) 237-2281, TDD (717) 237-2261, Martha Eberhart.

Puerto Rico State Office, 654 Munoz Rivera Avenue, IBM Plaza, Suite 601, Hato Rey, PR 00918, (787) 766-5095 (ext. 249), TDD (787) 766-5332, Lourdes Colon.

Rhode Island, Served by Massachusetts State Office.

South Carolina State Office, Strom Thurmond Federal Building, 1835 Assembly Street, Room 1007, Columbia, SC 29201, (803) 253-3432, TDD (803) 765-5697, Larry D. Floyd.

South Dakota State Office, Federal Building, Room 210, 200 Fourth Street, SW., Huron, SD 57350, (605) 352-1132, TDD (605) 352-1147, Roger Hazuka or Pam Reilly.

Tennessee State Office, Suite 300, 3322 West End Avenue, Nashville, TN 37203-1084, (615) 783-1375, TDD (615) 783-1397, Don Harris.

Texas State Office, Federal Building, Suite 102, 101 South Main, Temple, TX 76501, (254) 742-9765, TDD (254) 742-9712, Scooter Brockette.

Utah State Office, Wallace F. Bennett Federal Building, 125 S. State Street, Room 4311, Salt Lake City, UT 84147-0350, (801) 524-4325, TDD (801) 524-3309, Janice Kocher.

Vermont State Office, City Center, 3rd Floor, 89 Main Street, Montpelier, VT 05602, (802) 828-6021, TDD (802) 223-6365, Heidi Setien.

Virgin Islands, Served by Florida State Office.

Virginia State Office, Culpeper Building, Suite 238, 1606 Santa Rosa Road, Richmond, VA 23229, (804) 287-1596, TDD (804) 287-1753, CJ Michels.

Washington State Office, 1835 Black Lake Blvd., Suite B, Olympia, WA 98512, (360) 704-7730, TDD (360) 704-7760, Western Pacific Territories, Served by Hawaii State Office.

West Virginia State Office, Federal Building, 75 High Street, Room 320, Morgantown, WV 26505-7500, (304) 284-4872, TDD (304) 284-4836, David Cain.

Wisconsin State Office, 4949 Kirschling Court, Stevens Point, WI 54481, (715) 345-7676, TDD (715) 345-7614, Jeff Borcherding.

Wyoming State Office, PO Box 11005, Casper, WY 82602, (307) 233-6715, TDD (307) 233-6733, Alan Brooks.

FOR FURTHER INFORMATION CONTACT: Henry Searcy, Finance and Loan Analyst, Multi-Family Housing Preservation and Direct Loan Division, STOP 0782 (Room 1263-S), USDA Rural Development, 1400 Independence Avenue, SW., Washington, DC 20250-0782, telephone: (202) 720-1753 (this is not a toll free number), or via e-mail: Henry.Searcy@wdc.usda.gov.

SUPPLEMENTARY INFORMATION:

Paperwork Reduction Act

The reporting requirements contained in this notice have been approved by the Office of Management and Budget under Control Number 0575-0189.

Overview Information

Federal Agency Name: Rural Housing Service.

Funding Opportunity Title: Notice of Funds Availability for Section 514 Farm Labor Housing Loans and Section 516 Farm Labor Housing Grants for Off-Farm Housing.

Announcement Type: Initial Notice inviting applications from qualified applicants for FY 2009.

Catalog of Federal Domestic Assistance Numbers (CFDA): 10.405 and 10.427.

DATES: The deadline for receipt of all applications in response to this is 5 p.m., appropriate local time to each Rural Development State Office, on July 20, 2009. The application closing deadline is firm as to date and hour. Rural Development will not consider any application that is received after the closing deadline unless date and time is extended by another Notice published in the Federal Register. Applicants intending to mail applications must provide sufficient time to permit delivery on or before the closing deadline. Acceptance by a post office or private mailer does not constitute delivery. Facsimile (FAX), and postage due applications will not be accepted.

I. Funding Opportunities Description

Housing that is constructed with FLH loans and grants must meet Rural Development's design and construction standards contained in 7 CFR part 1924, subparts A and C. Once constructed, off-farm FLH must be managed in accordance with the program's management regulation, 7 CFR part 3560. Tenant eligibility is limited to persons who meet the definition of a “disabled domestic farm laborer”, “domestic farm laborer”, or “retired domestic farm laborer,” as defined in 7 CFR 3560.11. Farmworkers who are admitted to this country on a temporary basis under the Temporary Agricultural Workers (H-2A Visa) program are not eligible to occupy Section 514/516 off-farm FLH.

In addition, off-farm FLH must be operated on a non-profit basis and tenancy must be open to all qualified domestic farm laborers, regardless at which farm they work. Section 514(f)(3) of the Housing Act of 1949 (42 U.S.C. 1484(f)(3)) amended the definition of domestic farm laborers to include any person regardless of the person's source of employment, who receives a substantial portion of his or her income from the primary production of agricultural or aquacultural commodities in the unprocessed stage, and also includes the person's family.

Operating assistance may be used in lieu of tenant-specific rental assistance (RA) in off-farm labor housing projects that serve migrant farmworkers as defined in 7 CFR 3560.11 that are financed under section 514 or section 516(h) of the Housing Act of 1949 (42 U.S.C. 1486(h)), and otherwise meet the requirements of 7 CFR 3560.574. Owners of eligible projects may choose tenant-specific RA or operating assistance, or a combination of both; however, any tenant or unit assisted with operating assistance may not also receive RA. It is anticipated that operating assistance will not be available for new construction in FY 2009.

II. Award Information

Applications for FY 2009 will only be accepted through the date and time listed in this notice. Since USDA Rural Development has the ability to adjust loan and grant levels, final loan and grant levels will fluctuate, and are subject to the availability of funding. The funds available for FY 2009 for Off-Farm Labor Housing are: Section 514 $22,977,147, Section 516 $8,586,430 and Rental Assistance $3,400,000.

Individual requests may not exceed $3 million (total loan and grant). At this time, there is no available operating assistance. Section 516 off-farm FLH grants may not exceed 90 percent of the total development cost (TDC) of the housing as defined in 7 CFR 3560.11. Applications that require leveraged funding must have firm commitments in place for all of the leveraged funding within one year of the Agency issuance of Form AD-622, “Notice of Pre-application Review Action,” to the applicant. If leverage funds are in the form of tax credits, the applicant must document a history of receiving tax credits.

III. Eligibility Information

A. Applicant Eligibility

(1) To be eligible to receive a Section 516 grant for off-farm FLH, the applicant must be a broad-based non-profit organization, a community organization which can include a faith-based organization, a non-profit organization of farm workers, a Federally recognized Indian tribe, an agency or political subdivision of a State or local government, or a public agency (such as a housing authority). The applicant must be able to contribute at lease one-tenth of the TDC non-Rural Development resources which can include leveraged funds.

(2) To be eligible to receive a Section 514 loan for off-farm FLH, the applicant must be a broad-based non-profit organization, a community organization which can include a faith-based organization, a non-profit organization of farm workers, a Federally recognized Indian tribe, an agency or political subdivision of a State or local government, a public agency (such as a housing authority), or a limited partnership which has a non-profit entity as its general partner, and

(a) Be unable to provide the necessary housing from its own resources; and

(b) Except for State or local public agencies and Indian tribes, be unable to obtain similar credit elsewhere at rates that would allow for rents within the payment ability of eligible residents.

(3) Broad-based non-profit organizations must have a membership that reflects a variety of interests in the area where the housing will be located.

B. Cost Sharing or Matching

Section 516 grants for off-farm FLH may not exceed the lesser of 90 percent of the TDC as provided in 7 CFR 3560.562(c)(1).

C. Other Administrative Requirements

The following requirements apply to loans and grants made in response to this notice:

(1) 7 CFR part 1901, subpart E, regarding equal opportunity requirements;

(2) 7 CFR parts 3015, 3016 or 3019 (as applicable), which establishes the uniform administrative requirements for grants and cooperative agreements to State and local governments and to non-profit organizations;

(3) 7 CFR part 1901, subpart F, regarding historical and archaeological properties;

(4) 7 CFR part 1940, subpart G, regarding environmental assessments;

(5) 7 CFR part 3560, subpart L, regarding the loan and grant authorities of the off-farm FLH program;

(6) 7 CFR part 1924, subpart A, regarding planning and performing construction and other development;

(7) 7 CFR part 1924, subpart C, regarding the planning and performing of site development work; and

(8) For construction financed with a Section 516 grant, the provisions of the Davis-Bacon Act (40 U.S.C. Sec. 276(a)-276(a)(5) and implementing regulations published at 29 CFR parts 1, 3, and 5.

(9) All other requirements contained in 7 CFR part 3560, regarding the Section 514/516 off-farm FLH program.

IV. Application and Submission Information

The application process will be in two phases: The initial pre-application (or proposal) and the submission of a final application. Only those proposals that are selected for funding will be invited to submit final applications. In the event that a proposal is selected for further processing and the applicant declines, the next highest ranked unfunded pre-application may be selected.

All pre-applications for Sections 514 and 516 funds must be filed with the appropriate Rural Development State Office and must meet the requirements of this notice. Incomplete pre-applications will not be reviewed and will be returned to the applicant. No pre-application will be accepted after 5 p.m., local time to the appropriate Rural Development State Office on July 20, 2009 unless date and time is extended by another Notice published in the Federal Register.

If a pre-application is accepted for further processing, the applicant must submit a complete, final application, acceptable to Rural Development prior to the obligation of Rural Development funds. If the pre-application is not accepted for further processing the applicant will be notified of appeal rights under 7 CFR part 11.

Pre-Application Requirements

The pre-application must contain the following:

(1) A summary page listing the following items. This information should be double-spaced between items and not be in narrative form.

(a) Applicant's name.

(b) Applicant's Taxpayer Identification Number.

(c) Applicant's address.

(d) Applicant's telephone number.

(e) Name of applicant's contact person, telephone number, and address.

(f) Amount of loan and grant requested.

(g) For grants, the applicant's Dun and Bradstreet Data Universal Numbering System (DUNS) number. As required by the Office of Management and Budget (OMB), all grant applicants must provide a DUNS number when applying for Federal grants, on or after October 1, 2003. Organizations can receive a DUNS number at no cost by calling the toll-free number at 1-866-705-5711 or via internet at http://www.dnb.com/us/. Additional information concerning this requirement can be obtained on the Grants.gov Web site at http://www.grants.gov.

(2) A narrative verifying the applicant's ability to meet the eligibility requirements stated earlier in this notice.

(3) Standard Form 424, “Application for Federal Assistance”, can be obtained at http://www.grants.gov or from any Rural Development State Office listed in the addresses section.

(4) Current (within 6 months) financial statements with the following paragraph certified by the applicant's designated and legally authorized signer:

I/we certify the above is a true and accurate reflection of our financial condition as of the date stated herein. This statement is given for the purpose of inducing the United States of America to make a loan or to enable the United States of America to make a determination of continued eligibility of the applicant for a loan as requested in the loan application of which this statement is a part.

(5) Check for $40 from applicants made out to United States Department of Agriculture. This will be used to pay for credit reports obtained by Rural Development.

(6) Evidence that the applicant is unable to obtain credit from other sources. Letters from credit institutions which normally provide real estate loans in the area should be obtained and these letters should indicate the rates and terms upon which a loan might be provided. (Note: Not required from State or local public agencies or Indian tribes.)

(7) If a FLH grant is desired, a statement concerning the need for a FLH grant. The statement should include preliminary estimates of the rents required with and without a grant.

(8) A statement of the applicant's experience in operating labor housing or other rental housing. If the applicant's experience is limited, additional information should be provided to indicate how the applicant plans to compensate for this limited experience (i.e., obtaining assistance and advice of a management firm, non-profit group, public agency, or other organization which is experienced in rental management and will be available on a continuous basis).

(9) A brief statement explaining the applicant's proposed method of operation and management (i.e., on-site manager, contract for management services, etc.). As stated earlier in this notice, the housing must be managed in accordance with the program's management regulation, 7 CFR part 3560 and tenancy is limited to “disabled domestic farm laborers,” “domestic farm laborers,” “retired domestic farm laborers,” as defined in 7 CFR 3560.11.

(10) Applicants must also provide:

(a) A copy of, or an accurate citation to, the special provisions of State law under which they are organized, a copy of the applicant's charter, Articles of Incorporation, and By-laws;

(b) The names, occupations, and addresses of the applicant's members, directors, and officers; and

(c) If a member or subsidiary of another organization, the organization's name, address, and nature of business.

(11) A preliminary market survey or market study to identify the supply and demand for labor housing in the market area. The market area must be clearly identified and may include only the area from which tenants can reasonably be drawn for the proposed project. Documentation must be provided to justify a need within the intended market area for the housing of “domestic farm laborers”, as defined in 7 CFR 3560.11. The documentation must take into account disabled and retired farm workers. The preliminary survey should address or include the following items:

(a) The annual income level of farmworker families in the area and the probable income of the farm workers who are apt to occupy the proposed housing;

(b) A realistic estimate of the number of farm workers who remain in the area where they harvest and the number of farm workers who normally migrate into the area. Information on migratory workers should indicate the average number of months the migrants reside in the area and an indication of what type of family groups are represented by the migrants (i.e., single individuals as opposed to families);

(c) General information concerning the type of labor-intensive crops grown in the area and prospects for continued demand for farm laborers;

(d) The overall occupancy rate for comparable rental units in the area and the rents charged and customary rental practices for these units (i.e., will they rent to large families, do they require annual leases, etc.);

(e) The number, condition, adequacy, rental rates and ownership of units currently used or available to farm workers;

(f) A description of the units proposed, including the number, type, size, rental rates, amenities such as carpets and drapes, related facilities such as a laundry room or community room and other facilities providing supportive services in connection with the housing and the needs of the prospective tenants, such as a health clinic or day care facility, estimated development timeline, estimated total development cost, and applicant contribution; and

(g) The applicant must also identify all other sources of funds, including the dollar amount, source, and commitment status. (Note: A Section 516 grant may not exceed 90 percent of the total development cost of the housing.)

(12) A completed Form RD 1940-20, “Request for Environmental Information,” and a description of anticipated environmental issues or concerns. The form can be found at http://forms.sc.egov.usda.gov/eforms/mainserv/let.

(13) A prepared HUD Form 935.2A, “Affirmative Fair Housing Marketing Plan (AFHM) Multi-family Housing,” in accordance with 7 CFR 1901.203(c). The form can be found at http://www.hud.gov/offices/adm/hudclips/forms/files/935-2a.pdf. The plan will reflect that occupancy is open to all qualified “domestic farm laborers,” regardless of which farming operation they work and that they will not discriminate on the basis of race, color, sex, age, disability, marital or familial status or National origin in regard to the occupancy or use of the units.

(14) Evidence of site control, such as an option contract or sales contract. In addition, a map and description of the proposed site, including the availability of water, sewer, and utilities and the proximity to community facilities and services such as shopping, schools, transportation, doctors, dentists, and hospitals.

(15) Preliminary plans and specifications, including plot plans, building layouts, and type of construction and materials. The housing must meet Rural Development's design and construction standards contained in 7 CFR part 1924, subparts A and C and must also meet all applicable Federal, State, and local accessibility standards.

(16) A supportive services plan, which describes services that will be provided on-site or made available to tenants through cooperative agreements with service providers in the community, such as a health clinic or day care facility. Off-site services must be accessible and affordable to farm workers and their families. Letters of intent from service providers are acceptable documentation at the pre-application stage.

(17) A proposed operating budget utilizing Form RD 3560-7, “Multiple Family Housing Project Budget/Utility Allowance,” can be found at http://www.rurdev.usda.gov/regs/forms/3560-07.pdf.

(18) An estimate of development cost utilizing Form RD 1924-13, “Estimate and Certificate of Actual Cost,” can be found at http://forms.sc.egov.usda.gov/eforms/mainserv/let.

(19) Form RD 3560-30, “Certification of no Identity of Interest (IOI),” can be found at http://www.rurdev.usda.gov/reqs/forms/3560-30.pdf and Form RD 3560-31, “Identity of Interest Disclosure/Qualification Certification,” can be found at http://forms.sc.egov.usda.gov/eforms/mainserv/let.

(20) Form HUD 2530, “Previous Participation Certification,” can be found at http://www.hud.gov/offices/adm/hudclips/forms/files/2530.pdf.

(21) If requesting RA or Operating Assistance, Form RD 3560-25, “Initial Request for Rental Assistance or Operating Assistance,” can be found at http://forms.sc.egov.usda.gov/eforms/mainserv/let.

(22) A sources and uses statement which shows all sources of funding included in the proposed project. The terms and schedules of all sources included in the project should be included in the sources and uses statement.

(23) A separate one-page information sheet listing each of the “Pre-Application Scoring Criteria” contained in this notice, followed by a reference to the page numbers of all relevant material and documentation that is contained in the proposal that supports the criteria.

(24) Applicants are encouraged, but not required, to include a checklist of all of the pre-application requirements and to have their pre-application indexed and tabbed to facilitate the review process;

(25) Evidence of compliance with Executive Order 12372. The applicant must send a copy of Form SF-424 to the applicant's state clearinghouse for intergovernmental review. If the applicant is located in a state that does not have a clearing house, the applicant is not required to submit the form.

(26) Evidence of compliance with the requirements of the applicable State Housing Preservation Office (SHPO). A letter from the SHPO where the off-farm labor housing project is located, signed by their designee will serve as evidence of compliance.

(27) Form RD 400-4, “Assurance Agreement,” can be found at http://forms.sc.egov.usda.gov/eforms/mainserv/let. Applications for revitalization, repair and rehab are to apply through the Multi-Family Housing Revitalization Demonstration Program.

V. Pre-Application Review Information

All applications for Sections 514 and 516 funds must be filed with the appropriate Rural Development State Office and must meet the requirements of this notice. The Rural Development State Office will base its determination of completeness of the application and the eligibility of each applicant on the information provided in the pre-application.

Selection Criteria. Section 514 loan funds and Section 516 grant funds will be distributed to States based on a national competition, as follows:

(1) Rural Development States will accept, review, and score pre-applications in accordance with this notice. The scoring factors are:

(a) The presence and extent of leveraged assistance, including donated land, for the units that will serve program-eligible tenants, calculated as a percentage of the Rural Development TDC. Rural Development TDC excludes non-Rural Development eligible costs such as a developer's fee. Leveraged assistance includes, but is not limited to, funds for hard construction costs, Section 8 or other non-Rural Development tenant subsidies, and State or Federal funds. A minimum of ten percent leveraged assistance is required to earn points; however, if the total percentage of leveraged assistance is less than ten percent and the proposal includes donated land, two points will be awarded for the donated land. To count as leveraged funds for purposes of the selection criteria, a commitment of funds must be provided with the pre-application. Points will be awarded in accordance with the following table using rounding to the nearest whole number.

Percentage points |
75% or more leveraged funds | 20
60-74% leveraged funds | 18
50-59% leveraged funds | 16
40-49% leveraged funds | 12
30-39% leveraged funds | 10
20-29% leveraged funds | 8
10-19% leveraged funds | 5
0-9% leveraged funds | 0

Donated land in proposals with less than ten percent total leveraged assistance: Two points.

(b) Percent of units for seasonal, temporary, migrant housing.

(1) Five points for up to and including 50 percent of the units; and

(2) 10 points for 51 percent or more units used for seasonal, temporary, or migrant housing.

(c) The selection criteria include one optional criterion set by the National Office. For FY 2009, the National Office selection criterion is as follows: (1) Up to 10 points will be awarded based on the presence of and extent to which a tenant services plan exists that clearly outlines services that will be provided to the residents of the proposed project. These services may include, but are not limited to, transportation related services, on-site English as a Second Language (ESL) classes, move-in funds, emergency assistance funds, homeownership counseling, food pantries, after school tutoring, and computer learning centers. (2) Two points will be awarded for each resident service included in the tenant services plan up to a maximum of 10 points. Plans must detail how the services are to be administered, who will administer them, and where they will be administered. All tenant service plans must include letters of intent that clearly state the service that will be provided at the project for the benefit of the residents from any party administering each service, including the applicant.

(2) Rural Development State Offices will conduct the preliminary eligibility review, score the pre-applications, and forward them to the National Office.

(3) The National Office will rank all pre-applications nationwide and distribute funds to States in rank order, within funding and RA limits. A lottery in accordance with 7 CFR 3560.56(c)(2) will be used for applications with tied point scores when they all cannot be funded. If insufficient funds or RA remain for the next ranked proposal, that applicant will be given a chance to modify their pre-application to bring it within remaining funding levels. This will be repeated for each next ranked eligible proposal until an award can be made or the list is exhausted. Rural Development will notify all applicants on whether their applications have been accepted or rejected.

VI. Award Administration Information

1. Award Notices

Loan applicants must submit their initial applications by the due date specified in this notice. State Offices will review applications and provide a list to the National Office. Once the applications have been scored and ranked by the National Office the National Office, will advise States Offices of the proposals selected for further processing, State Offices will respond to applicants by letter. If the application is not accepted for further processing, the applicant will be notified of appeal rights under 7 CFR part 11.

2. Administrative and National Policy

All Farm Labor Housing loans and grant made pursuant to a contract entered into on or after the effective date of 7 CFR part 3560 are subject to the restrictive-use provisions contained in 7 CFR 3560.72(a)(2).

3. Reporting

Borrowers must maintain separate financial records for the operation and maintenance of the project and the service component. Funds allocated to the operation and maintenance of the project may not be used to supplement the cost of services, nor may service component funds be used to supplement the project operation and maintenance. Detailed financial reports on the service component will not be required unless specifically requested by Rural Development, and then only to the extent necessary for Rural Development and the borrower to discuss the affordability (and competitiveness) of the service component by the tenant.

The project audit, or verification of accounts on Form RD 3560-10, “Borrower Balance Sheet”, together with an accompanying Form RD 3560-7 “Multiple Family Housing Project Budget/Utility Allowance” showing actuals, must allocate revenue and expense between project operations and the service component.

VII. Agency Contacts

For application information, contact the Rural Development State Office listed in the addresses section of this notice.

VIII. Non-Discrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's Target Center at (202) 720-2600 (voice and TDD). To file a complaint of discrimination, write to USDA, Director, Office of Civil Rights, 1400 Independence Avenue, SW., Washington, DC 20250-9410, or call (800) 795-3272 (voice) or (202) 720-6382 (TDD). USDA is an equal opportunity provider and employer.

Dated: May 13, 2009.
James C. Alsop,
Acting Administrator, Rural Housing Service.

[FR Doc. E9-11833 Filed 5-20-09; 8:45 am]

BILLING CODE P